DEPARTMENT OF HOMELAND SECURITY

Federal Emergency Management Agency

44 CFR Part 67

[Docket ID FEMA-2011-0002; Internal Agency Docket No. FEMA-B-1171]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before April 20, 2011.

ADDRESSES: The corresponding preliminary Flood Insurance Rate Map (FIRM) for the proposed BFEs for each community is available for inspection at the community's map repository. The respective addresses are listed in the table below.

You may submit comments, identified by Docket No. FEMA-B-1171, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | Elevation in feet (NGVD) + Elevation in feet (NAVD) # Depth in feet above ground ‸ Elevation in meters (MSL): Existing | Elevation in feet (NGVD) + Elevation in feet (NAVD) # Depth in feet above ground ‸ Elevation in meters (MSL): Modified
Unincorporated Areas of Hoke County, North Carolina
North Carolina | Unincorporated Areas of Hoke County | Lumber River | At the Robeson and Scotland County boundary | +205 | +203
|  |  | Approximately 0.5 mile upstream of the Quewhiffle Creek confluence | +256 | +257
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Hoke County
Maps are available for inspection at the Hoke County Planning Office, 423 East Central Avenue, Raeford, NC 28376.
Unincorporated Areas of Robeson County, North Carolina
North Carolina | Unincorporated Areas of Robeson County | Lumber River | Approximately 1.2 miles upstream of the Scotland County boundary | +190 | +191
|  |  | At the Hoke and Scotland County boundary | +205 | +203
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Robeson County
Maps are available for inspection at the Robeson County Department of Building Safety and Code Enforcement, 415 Country Club Drive, Lumberton, NC 28360.
Unincorporated Areas of Nowata County, Oklahoma
Oklahoma | Unincorporated Areas of Nowata County | Southwest Tributary | At the downstream side of E0230 Road | None | +687
|  |  | Approximately 0.4 mile upstream of E0230 Road | None | +696
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Nowata County
Maps are available for inspection at the Nowata County Office, 2219 North Maple Street, Nowata, OK 74048

Flooding Source(s) | Location of referenced elevation ** | *Elevation in feet (NGVD) +Elevation in feet (NAVD) #Depth in feet above ground ‸Elevation in meters (MSL): Effective | *Elevation in feet (NGVD) +Elevation in feet (NAVD) #Depth in feet above ground ‸Elevation in meters (MSL): Modified | Communities affected
Sebastian County, Arkansas, and Incorporated Areas
Massard Creek | Approximately 155 feet upstream of Rogers Avenue | +407 | +406 | City of Fort Smith, Unincorporated Areas of Sebastian County.
| Approximately 720 feet upstream of State Highway 255 (Zero Street) | None | +420
Mill Creek | Approximately 200 feet downstream of South 28th Street | +478 | +477 | City of Fort Smith.
| Approximately 1.05 miles upstream of Jenny Lind Road | None | +521
No Name Creek | Approximately 0.33 mile upstream of the Sunnymede Creek confluence | +408 | +409 | City of Fort Smith.
| Approximately 185 feet downstream of the No Name Creek Tributary confluence | +455 | +456
No Name Creek | At the No Name Creek confluence | +457 | +456 | City of Fort Smith.
Tributary | Approximately 970 feet upstream of South 46th Street | None | +518
Spivey Creek | At the Massard Creek confluence | +414 | +411 | City of Fort Smith, Unincorporated Areas of Sebastian County.
| Approximately 0.44 mile upstream of Industrial Drive | None | +477
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Fort Smith
Maps are available for inspection at the Engineering Department, 623 Garrison Avenue, Suite 409, Fort Smith, AR 72901.
Unincorporated Areas of Sebastian County
Maps are available for inspection at the Sebastian County Courthouse, 35 South 6th Street, Fort Smith, AR 72901.
El Dorado County, California, and Incorporated Areas
Bijou Creek | Approximately 100 feet upstream of the Lake Tahoe confluence | +6,232 | +6,234 | City of South Lake Tahoe.
| Approximately 550 feet upstream of Pioneer Trail | +6,325 | +6,347
Trout Creek | Approximately 1,750 feet upstream of the Lake Tahoe confluence | +6,235 | +6,234 | City of South Lake Tahoe, Unincorporated Areas of El Dorado County.
| Approximately 1,580 feet downstream of Martin Avenue | +6,252 | +6,251
Upper Truckee River | Approximately 1,400 feet downstream of Lake Tahoe Boulevard | +6,240 | +6,241 | City of South Lake Tahoe, Unincorporated Areas of El Dorado County.
| Approximately 1.44 miles upstream of Lake Tahoe Boulevard | +6,250 | +6,251
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of South Lake Tahoe
Maps are available for inspection at 1900 Lake Tahoe Boulevard, South Lake Tahoe, CA 96150.
Unincorporated Areas of El Dorado County
Maps are available for inspection at 2850 Fairlane Court, Placerville, CA 95667.
Putnam County, Indiana, and Incorporated Areas
Big Walnut Creek | Approximately 845 feet downstream of Oakalla Covered Bridge | None | +656 | Unincorporated Areas of Putnam County.
| Approximately 845 feet upstream of Houck Road (North County Road 25 East) | None | +692
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Putnam County
Maps are available for inspection at the Putnam County Planning and Zoning Department, Annex Building, 209 West Liberty Street, Room 3, Greencastle, IN 46135.
Clark County, Kentucky, and Incorporated Areas
Boone Creek (backwater effects from Kentucky River) | From the Kentucky River confluence to approximately 1.2 miles upstream of the Kentucky River confluence | None | +590 | Unincorporated Areas of Clark County.
Bull Run (backwater effects from Kentucky River) | From the Kentucky River confluence to approximately 0.8 mile upstream of the Kentucky River confluence | None | +603 | Unincorporated Areas of Clark County.
Cotton Creek (backwater effects from Kentucky River) | From the Upper Howard Creek confluence to approximately 0.6 mile upstream of the Upper Howard Creek confluence | None | +602 | Unincorporated Areas of Clark County.
Dumford Hollow (backwater effects from Kentucky River) | From the Kentucky River Tributary 1 confluence to approximately 1,352 feet upstream of the Kentucky River Tributary 1 confluence | None | +604 | Unincorporated Areas of Clark County.
Fourmile Creek (backwater effects from Kentucky River) | From the Kentucky River confluence to approximately 1.4 miles upstream of the Kentucky River confluence | None | +597 | Unincorporated Areas of Clark County.
Indian Creek (backwater effects from Kentucky River) | From the Kentucky River confluence to approximately 0.5 mile upstream of the Kentucky River confluence | None | +600 | Unincorporated Areas of Clark County.
Jouett Creek (backwater effects from Kentucky River) | From the Kentucky River confluence to approximately 0.5 mile upstream of the Kentucky River confluence | None | +591 | Unincorporated Areas of Clark County.
Kentucky River | At the Boone Creek confluence | None | +590 | Unincorporated Areas of Clark County.
| At the Red River confluence | None | +604
Kentucky River Tributary 1 (backwater effects from Kentucky River) | From the Kentucky River confluence to approximately 0.5 mile upstream of the Kentucky River confluence | None | +604 | Unincorporated Areas of Clark County.
Lower Howard Creek | Approximately 3.4 miles upstream of Reservoir Lane | +853 | +852 | City of Winchester, Unincorporated Areas of Clark County.
| Approximately 273 feet upstream of Colby Road | +962 | +961
Lower Howard Creek (backwater effects from Kentucky River) | From the Kentucky River confluence to approximately 1 mile upstream of the Kentucky River confluence | None | +592 | Unincorporated Areas of Clark County.
Lower Howard Creek Tributary H7 (backwater effects from Lower Howard Creek) | From the Lower Howard Creek confluence to approximately 712 feet upstream of the Lower Howard Creek confluence | +890 | +891 | Unincorporated Areas of Clark County.
Red River (overflow effects from Kentucky River) | At the Kentucky River confluence | None | +604 | Unincorporated Areas of Clark County.
| Approximately 1.2 miles upstream of Irving Road | None | +605
Strodes Creek | Approximately 317 feet upstream of the Hancock Creek confluence | +873 | +870 | City of Winchester, Unincorporated Areas of Clark County.
| Approximately 0.9 miles upstream of Pioneer Drive | +953 | +952
Strodes Creek Tributary S1 | From the Strodes Creek confluence to approximately 1,554 feet upstream of the Strodes Creek confluence | +924 | +928 | City of Winchester, Unincorporated Areas of Clark County.
Strodes Creek Tributary S2 (backwater effects from Strodes Creek) | From the Strodes Creek Tributary S1 confluence to approximately 540 feet upstream of the Strodes Creek Tributary S1 confluence | +927 | +928 | City of Winchester, Unincorporated Areas of Clark County.
Strodes Creek Tributary S5 (backwater effects from Strodes Creek) | From the Strodes Creek confluence to approximately 1,385 feet upstream of the Strodes Creek confluence | +921 | +926 | City of Winchester, Unincorporated Areas of Clark County.
Twomile Creek (backwater effects from Kentucky River) | From the Kentucky River confluence to approximately 0.8 mile upstream of the Kentucky River confluence | None | +596 | Unincorporated Areas of Clark County.
Upper Howard Creek (backwater effects from Kentucky River) | From the Kentucky River confluence to approximately 1.9 miles upstream of the Kentucky River confluence | None | +602 | Unincorporated Areas of Clark County.
Upper Howard Creek Tributary 3 (backwater effects from Kentucky River) | From the Upper Howard Creek confluence to approximately 1,559 feet upstream of the Upper Howard Creek confluence | None | +602 | Unincorporated Areas of Clark County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Winchester
Maps are available for inspection at City Hall, 32 Wall Street, Winchester, KY 40392.
Unincorporated Areas of Clark County.
Maps are available for inspection at the Clark County Courthouse, 34 South Main Street, Winchester, KY 40391.
Mercer County, Ohio, and Incorporated Areas
Beaver Creek (Lower) | Approximately 1,400 feet downstream of Meyer Road | None | +861 | City of Celina.
| At the downstream side of the Grand Lake Dam | None | +861
Beaver Creek (Upper) | Approximately 850 feet downstream of State Route 219 | +872 | +873 | Unincorporated Areas of Mercer County, Village of Montezuma.
| At the downstream side of Casselia Montezuma Road | None | +876
Grand Lake Saint Mary's | Entire shoreline within community | None | +872 | City of Celina.
Saint Mary's River | At the Van Wert County boundary | None | +797 | Unincorporated Areas of Mercer County, Village of Mendon, Village of Rockford.
| At the Auglaize County boundary | None | +814
Wabash River | Approximately 0.72 mile downstream of State Route 49 | None | +922 | Unincorporated Areas of Mercer County, Village of Fort Recovery.
| Approximately 0.88 mile upstream of North First Street | None | +928
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Celina
Maps are available for inspection at 426 West Market Street, Celina, OH 45822
Unincorporated Areas of Mercer County
Maps are available for inspection at the Mercer County Central Service Building, 220 West Livingston Street, Room A201, Celina, OH 45822.
Village of Fort Recovery
Maps are available for inspection at 201 South Main Street, Fort Recovery, OH 45846.
Village of Mendon
Maps are available for inspection at 102 South Main Street, Mendon, OH 45862.
Village of Montezuma
Maps are available for inspection at 69 West Main Street, Montezuma, OH 45866.
Village of Rockford
Maps are available for inspection at 151 East Columbia Street, Rockford, OH 45882.

(Catalog of Federal Domestic Assistance No. 97.022, “Flood Insurance.”)

Dated: January 11, 2011.
Edward L. Connor,
Acting Federal Insurance and Mitigation Administrator, Mitigation, Department of Homeland Security, Federal Emergency Management Agency.

[FR Doc. 2011-1061 Filed 1-19-11; 8:45 am]

BILLING CODE 9110-12-P